DEPARTMENT OF COMMERCE

National Oceanic and Atmospheric Administration

50 CFR Part 660

[Docket No. 110223162-1295-02]

RIN 0648-XA184

Fisheries Off West Coast States; West Coast Salmon Fisheries; 2011 Management Measures; Correction

AGENCY: National Marine Fisheries Service (NMFS), National Oceanic and Atmospheric Administration (NOAA), Commerce.

ACTION: Final rule; correcting amendment.

SUMMARY: NMFS established fishery management measures for the 2011 ocean salmon fisheries off Washington, Oregon, and California and the 2012 salmon seasons opening earlier than May 1, 2012. The final rule published on May 4, 2011, included an incorrect area description for minimum size requirements for the commercial salmon fishery. This action corrects the incorrect language.

DATES: Effective June 7, 2011.

FOR FURTHER INFORMATION CONTACT: Peggy Busby at 206-526-4323.

SUPPLEMENTARY INFORMATION: A final rule published May 4, 2011 (76 FR 25246), describes annual management measures for managing the harvest of salmon in the area managed by the Pacific Fishery Management Council (Council). This correcting amendment revises a table in that rule to make it consistent with the text of the rule and the Council's recommendations.

Need for Correction

In the final rule regarding 2011 salmon management measures (76 FR 25246, May 4, 2011), Section 1, part B on page 25251 consists of a table of Minimum Size for salmon caught in the commercial fishery. There are two errors in this table, rendering it inconsistent with the rule text and the Council's recommendations for the 2011 salmon management measures, as adopted at their April 2011 meeting. The corresponding text describing the fishing area and geographic boundaries in Section 1, part A, is correct as published on May 4, and is consistent with the Council's recommendations for the 2011 management measures for the salmon fishery. In the table, the area listed as “Cape Falcon to Horse Mt.” is corrected to read “Cape Falcon to OR/CA Border.” The area listed as “Horse Mt. to US-Mexico Border” is corrected to read “OR/CA Border to U.S./Mexico Border.” The table here replaces the table in 76 FR 25246, Section 1:

B. Minimum Size (Inches) (See C.1)

Area (when open) | Chinook: Total length | Chinook: Head-off | Coho: Total length | Coho: Head-off | Pink
North of Cape Falcon, OR | 28.0 | 21.5 | 16.0 | 12.0 | None.
Cape Falcon to OR/CA Border | 28.0 | 21.5 |  |  | None.
OR/CA Border to U.S./Mexico Border | 27.0 | 20.5 |  |  | None.
Metric equivalents: 28.0 in = 71.1 cm, 27.0 in = 68.6 cm, 21.5 in = 54.6 cm, 20.5 in = 52.1 cm, 16.0in = 40.6 cm, and 12.0 in = 30.5 cm.

Classification

The Assistant Administrator for Fisheries, NOAA (AA) finds good cause under 5 U.S.C. 553(b)(B), to waive the requirement for prior notice and opportunity for additional public comment for this action as notice and comment would be unnecessary and contrary to the public interest. Notice and comment are unnecessary and contrary to the public interest because this action simply makes the above-referenced table consistent with the text in the original final rule and the Council's recommended action. This correction does not affect the results of analyses conducted to support management decisions in the salmon fishery nor change the total catch of salmon. The correction eliminates an inconsistency between the table, and the text and the Council's recommendation, and therefore eliminates any confusion that the inconsistency might create for the public. If this rule is not implemented immediately, the public will have incorrect information regarding the geographic area and boundaries for the salmon fishery, which will cause confusion and will be inconsistent with the Council's recommendation and with the analytical documents for this rulemaking. No aspect of this action is controversial and no change in operating practices in the fishery is required.

For the same reasons, pursuant to 5 U.S.C. 553(d), the AA finds good cause to waive the 30-day delay in effective date. If this rule is not implemented immediately, the public will have incorrect information regarding the geographic area and boundaries for the salmon fishery, which will cause confusion and will be inconsistent with the Council's recommendation and with the analytical documents for this rulemaking.

Because prior notice and opportunity for public comment are not required for this rule by 5 U.S.C. 553, or any other law, the analytical requirements of the Regulatory Flexibility Act, 5 U.S.C. 601 et seq., are inapplicable.

This final rule is exempt from review under Executive Order 12866.

Authority: 16 U.S.C. 773-773k; 1801 et seq.

Dated: May 31, 2011.
Eric C. Schwaab,
Assistant Administrator for Fisheries, National Marine Fisheries Service.

[FR Doc. 2011-13975 Filed 6-6-11; 8:45 am]

BILLING CODE 3510-22-P